DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236 as detailed below.

[Docket Number FRA-2008-0108]

Applicant: Port of San Francisco, Ms. Evelyn Onderdonk, P.E., Resident Engineer, Pier 1, The Embarcadero, San Francisco, California 94111.

The Port of San Francisco seeks relief from the requirements of the Rules, Standards, and Instructions, Title 49 CFR Part 236, §§ 236.312, Movable bridge, interlocking of signal appliances with bridge; 236.303, Control circuits for signals, selected through circuit controller operated by switch points or by switch locking mechanism; and 236.55, Dead section; maximum length, on the Illinois Street Bridge Project. The Port is the owner of the bridge and the railroad. The location of the bridge is in San Francisco on Illinois Street between Cargo Way and Marin Street.

Applicant's justification for relief: As to § 236.312, the Illinois Street Bridge is a non-counterweighted single leaf trunnion type bascule span rotated by hydraulic cylinders. The leaf weighs 475 kips. The bridge is opened by brute force. As such, there is no need for a mechanical locking device to hold the bridge down. Horizontal alignment of the rail is provided by the trunnion at the heel end and by friction on the toe end bearings. In addition, a toe end centering device, or lug, is provided to ensure bridge horizontal alignment in overload conditions such as moderate earthquakes and ship impacts.

As to § 236.303, trains are operating at 10 mph, regardless of the switch points' position the train engineer, per the railroad's operating procedures, will get off the engine, inspect the switch points and align if required to ensure that they are in the correct position and that no obstructions are present, push the appropriate push button, wait until a proceed signal is received, board the engine, and proceed.

As to § 236.55, there is a 70-foot dead section on the bridge. A trap circuit ensures that the bridge cannot be raised while the bridge is occupied by a train and functions as follows: “When a train leaves the last track circuit before the dead section and enters the dead section, the track circuit on the other side of the dead section must become occupied and then unoccupied before the bridge can be raised.” Under this system, there is a possibility that a rail car could be left within the dead section and not be detected. To protect against this possibility, operation of the bridge must occur from the roof of the bridge control house where conditions on the bridge can be observed. The bridge cannot be raised remotely. The train engineer shall use line of sight to ensure that the bridge is unobstructed before proceeding across the bridge.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Any interested party desiring to protest the granting of an application shall set forth specifically the grounds upon which the protest is made, and it shall contain a concise statement of the interest of the party in the proceeding. Additionally, one copy of the protest shall be furnished to the applicant at the address listed above.

All communications concerning these proceedings should be identified by Docket Number FRA-2008-0108 and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on November 3, 2008.
Grady C. Cothen, Jr.,
Deputy Associate Administrator for Safety Standards and Program Development.

[FR Doc. E8-26619 Filed 11-6-08; 8:45 am]

BILLING CODE 4910-06-P